DEPARTMENT OF TRANSPORTATION

Federal Aviation Administration

Aviation Rulemaking Advisory Committee Meeting on Transport Airplane and Engine Issues; Correction

AGENCY: Federal Aviation Administration (FAA), DOT.

ACTION: Notice of public meeting; correction.

SUMMARY: The Federal Aviation Administration published a document in the Federal Register of October 30, 2006, (71 FR 63378) concerning a notice of public meeting of the FAA's Aviation Rulemaking Advisory Committee (ARAC) to discuss transport airplane and engine (TAE) issues. The document omitted some relevant information.

FOR FURTHER INFORMATION CONTACT: Nicanor Davidson, (202) 267-5174.

Correction

In the Federal Register of October 30, 2006, in FR Doc. E6-18146, on page 63378, in the third column, under SUPPLEMENTARY INFORMATION, amend the sixth bullet in the agenda, Ice Protection Harmonization Working Group (HWG) Report, to add sub-bullets as follows:

• Vote on HWG report for Task 1 TSO.

• Vote on HWG reports for Task 5 and Task 6 mixed phase.

Issued in Washington, DC on November 1, 2006.
Eve Adams.
Acting Director, Office of Rulemaking.

[FR Doc. E6-18728 Filed 11-6-06; 8:45 am]

BILLING CODE 4910-13-P